FEDERAL EMERGENCY MANAGEMENT AGENCY

44 CFR Part 67

[Docket No. FEMA-D-7508]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD): Existing | #Depth in feet above ground. *Elevation in feet (NGVD): Modified
Connecticut | New Britain (City), Hartford County | Webster Brook | Approximately 500 feet downstream of corporate limits | None | *51
|  |  | Approximately 170 feet upstream of New Britain Avenue | None | *66
|  | Piper Brook | At downstream corporate limits | None | *80
|  |  | Approximately 280 feet upstream of corporate limits | None | *80
|  | Bass Brook | At downstream corporate limits | *90 | *87
|  |  | Approximately 770 feet upstream of Lewis Road | *267 | *265
|  | Batterson Park | At Alexander Road | *180 | *182
|  | Pond Brook | Approximately 275 feet upstream of Brittany Farms Road culverts | *206 | *207
|  | Sandy Brook | At confluence with Bass Brook | *90 | *87
|  |  | Approximately 575 feet upstream of Ella Grasso Boulevard | *131 | *130
Maps available for inspection at the New Britain City Hall, 27 West Main Street, New Britain, Connecticut.
Send comments to The Honorable Lucian J. Pawlak, Mayor of the City of New Britain, New Britain City Hall, 27 West Main Street, New Britain, Connecticut 06051.
Connecticut | Newington (Town), Hartford County | Mill Brook | At the confluence with Piper Brook | *53 | *50
|  |  | Approximately 380 feet upstream of dam with footbridge | *75 | *74
|  | Schoolhouse Brook | Approximately 0.3 mile downstream of Wilson Avenue | *75 | *74
|  |  | At Robbins Avenue | *80 | *81
|  | Piper Brook | At the downstream corporate limits | *53 | *49
|  |  | Approximately 350 feet upstream of confluence of Bass Brook | *80 | *79
|  | Rock Hole Brook | Approximately 340 feet downstream of Stonehedge Drive | *50 | *51
|  |  | Approximately 0.54 foot upstream of Willard Avenue | None | *89
|  | Webster Brook | Approximately 0.54 mile downstream of Kelsey Street | *45 | *48
|  |  | Approximately 0.52 mile upstream of railroad embankment | None | *74
|  | Webster Brook | At the confluence with Webster Brook | None | *68
|  | Tributary | Approximately 1,300 feet upstream of Liberty Street | None | *71
|  | Bass Brook | At confluence with Piper Brook | *80 | *79
|  |  | Approximately 100 feet upstream of Route 9 | None | *100
Maps available for inspection at the Newington Town Hall, 131 Cedar Street, Newington, Connecticut.
Send comments to The Honorable Robert A. Randich, Mayor of the Town of Newington, Newington Town Hall, 131 Cedar Street, Newington, Connecticut 06111.
Florida | Astatula (Town), Lake County | Little Lake Harris | Entire shoreline within community | None | *64
Maps available for inspection at the Town of Astatula Clerk's Office, 25019 CR 561, Astatula, Florida.
Send comments to The Honorable James D. Ellrodt, Mayor of the Town of Astatula, P.O. Box 609, Astatula, Florida 34705.
Florida | Clermont (City), Lake County | Wilma Lake North | Entire shoreline within community | *89 | *91
|  | Lake Felter | Entire shoreline within community | None | *89
|  | Wilma Lake South | Approximately 1,900 feet northeast of intersection of State Route 25 and Steves Road | *89 | *90
Maps available for inspection at the City of Clermont Planning & Zoning Department, 1 Westgate Plaza, Clermont, Florida.
Send comments to Mr. Wayne Saunders, Clermont City Manager, P.O. Box 120219, Clermont, Florida 34712-0219.
Florida | Eustis (City), Lake County | Ponding Area H5B | Entire shoreline within community | None | *70
|  | Lake Eustis | Entire shoreline within community | *65 | *64
Maps available for inspection at the City of Eustis Building Department, 10 North Grove Street, Eustis, Florida.
Send comments to Mr. Michael G. Stearman, Eustis City Manager, P.O. Drawer 68, Eustis, Florida 32727-0068.
Florida | Fruitland Park (City), Lake County | Dream Lake | Entire shoreline within community | None | *73
|  | Fountain Lake East | Entire shoreline within community | None | *86
|  | Lake Gem | Entire shoreline within community | None | *91
|  | Lake Eustis | Entire shoreline within community | *65 | *64
|  | Fountain Lake West | Entire shoreline within community | *85 | *84
|  | Lake Griffin | Approximately 1,000 feet northeast of the intersection of Hamlet Court and Picciola Cutoff | None | *61
|  | Myrtle Lake | Entire shoreline within community | None | *72
Maps available for inspection at the City of Fruitland Park City Hall, Building Department, 506 West Berckman Street, Fruitland Park, Florida.
Send comments to Mr. Bruce D. Banning, Fruitland Park City Manager, 506 West Berckman Street, Fruitland Park, Florida 34731.
Florida | Groveland (City), Lake County | Stewart Lake | Approximately 100 feet northwest of the intersection of Parkwood Road and Gadson Street | None | *100
Maps available for inspection at the City of Groveland Building Department, 156 South Lake Avenue, Groveland, Florida.
Send comments to Mr. Jason Yarborough, Groveland City Manager, 156 South Lake Avenue, Groveland, Florida 34736.
Florida | Gulf County (Unincorporated Areas) | Gulf of Mexico | Along the coast of the Gulf of Mexico approximately 1,000 feet north of Eagle Harbor | *13 | *12
|  |  | Along the Gulf of Mexico shoreline, approximately 1,500 feet west of Indian Pass | *14 | *13
|  | St. Joseph Bay | Approximately 1,500 feet inland from St. Joseph Bay, along the shoreline of St. Joseph Bay | *9 | *8
|  |  | Along the St. Joseph Bay shoreline, approximately 3 miles southeast of Pig Island | *10 | *11
|  | Indian Lagoon | Along the shoreline of Indian Lagoon, approximately 1,000 feet west of Indian Pass | *11 | *9
|  |  | Approximately 500 feet west of Indian Pass | *11 | *10
Maps available for inspection at the Gulf County Courthouse, 1000 Cecil G. Costin, Sr., Boulevard, Room 302, Port St. Joe, Florida.
Send comments to Mr. Nathan Peters, Jr., Chairman of the Gulf County Board of Commissioners, 1000 Cecil G. Costin, Sr., Boulevard, Room 302, Port St. Joe, Florida 32456.
Florida | Howey in the Hills (Town), Lake County | Ponding Area 455-1 | Approximately 100 feet west of the intersection of Marilyn Avenue and Poinsettia Street | None | *84
|  | Lake Harris | Entire shoreline within community | None | *64
|  | Little Lake Harris | Entire shoreline within community | None | *64
Maps available for inspection at the Town of Howey in the Hills Town Hall, 101 North Palm Avenue, Howey in the Hills, Florida.
Send comments to The Honorable Gregory J. Bittner, Mayor of the Town of Howey in the Hills, P.O. Box 67, Howey in the Hills, Florida 34737.
Florida | Lake County (Unincorporated Areas) | Lake Denham | Entire shoreline within county | None | *64
|  | Zephyr Lake | Entire shoreline within county | None | *109
|  | Spring Lake | Entire shoreline within county | None | *74
|  | Unity Lake | Entire shoreline within county | None | *64
|  | Ponding Area 07-3 | Entire shoreline within county | None | *74
|  | Ponding Area 07-5 | Approximately 450 feet northeast of the intersection of Thomas Avenue and U.S. Route 44A | None | *74
|  | Ponding Area 461-1 | Entire shoreline within county | None | *87
|  | Ponding Area Q3-4 | Entire shoreline within county | None | *78
|  | Ponding Area G9-1 | Entire shoreline within county | None | *69
|  | Ponding Area G1-4 | Entire shoreline within county | None | *65
|  | Ponding Area 725-1 | Entire shoreline within county | None | *114
|  | Lake Needham | Entire shoreline within county | None | *106
|  | Ponding Area 650-1 | Entire shoreline within county | None | *103
|  | Ponding Area 650-2 | Entire shoreline within county | None | *105
|  | Ponding Area 525-1 | Entire shoreline within county | None | *98
|  | Ponding Area 525-2 | Entire shoreline within county | None | *94
|  | Ponding Area 525-3 | Entire shoreline within county | None | *95
|  | Lake Harris | Entire shoreline within county | None | *64
|  | Ponding Area D 2 E 2 |  | None | *84
|  | Ponding Area D 2 B |  | None | *69
|  | Lake Alice | Entire shoreline within county | None | *99
|  | Ponding Area E 3 B |  | None | *75
|  | Ponding Area K 1 A |  | None | *74
|  | Ponding Area K 4 1 |  | None | *65
|  | Martins Lake | Approximately 650 feet northwest from the intersection of Old Highway 50 and Forestwood Drive | None | *89
|  | Ponding Area J-1-1 | Approximately 100 feet west of the intersection of Orange Court and Bay Avenue | None | *74
|  | Sunset Valley Lake | Entire shoreline within county | *79 | *82
|  | Ponding Area 359-2 |  | None | *168
|  | Ponding Area 362-1 | Entire shoreline within county | None | *80
|  | Lake Tem | Entire shoreline within county | None | *81
|  | Ponding Area | Approximately 250 feet in a southwesterly direction from the intersection of Indianola Drive and Woodland Avenue | None | *64
|  | Lake Illinois | Approximately 1,100 feet southwest from the intersection of Magnolia and Cypress Avenues | None | *79
|  | Ponding Area K-11-3 | Approximately 1,900 feet southwest from Magnolia and Cypress Avenues | None | *84
|  | Emeralda Marsh | Entire shoreline within county | None | *60
|  | Ponding Area 4 | Entire shoreline within county | None | *74
|  | Dukes Lake | Entire shoreline within county | None | *99
|  | Lake Catherine | Entire shoreline within county | None | *99
|  | Ponding Area 535-2 |  | None | *99
|  | Minneola Annex Pond 1 |  | None | *95
|  | Minneola Annex Pond 2 |  | None | *97
|  | Ponding Area 395-1 | Entire area within county | None | *62
|  | Gallows Lake | Entire shoreline within county | None | *104
|  | Ponding Area 510-1 | Entire shoreline within county | None | *95
|  | Little Bluff Creek | Entire shoreline within county | None | *99
|  | Lake Douglas | Entire shoreline within county | None | *97
|  | Wolf Branch Sink | Entire area within county | *79 | *82
|  | Sorrento Swamp | Entire shoreline within county | None | *80
|  | Lake Eustis | Entire shoreline within county | None | *64
|  | Leesburg Tributary 1 | Approximately 310 feet downstream of Airport Runway | None | *64
|  |  | Approximately 0.61 mile upstream of South Whitney Road | None | *78
|  | Leesburg Tributary 2 | Approximately 1,000 feet downstream of Youngs Road | None | *64
|  |  | Approximately 0.48 mile upstream of State Route 468 | None | *80
|  | Leesburg Tributary 3 | Approximately 1,400 feet upstream of El Rancho Drive | None | *64
|  |  | Approximately 2,050 feet downstream of El Rancho Drive | None | *77
|  | Lake Griffin | Entire shoreline within county | None | *61
|  | Lake Woodward | Approximately 900 feet north of the intersection of Codding Place and Mt. Mitchell Drive | None | *74
|  | Park Lake | Entire shoreline within county | None | *74
|  | Ponding Area 380-1 |  | None | *69
|  | Ponding Area 380-4 |  | None | *71
|  | Ponding Area 378-7 |  | None | *80
|  | Ponding Area 380-2 |  | None | *70
|  | Ponding Area 380-3 |  | None | *70
|  | Lake Gary | Entire shoreline within county | None | *103
|  | Saw Mill | Entire shoreline within county | None | *102
|  | Grassy Lake | Entire shoreline within county | None | *85
|  | Little Grassy Lake | Entire shoreline within county | None | *90
|  | Lake Idamere | Entire shoreline within county | None | *69
|  | Indianhouse Lake West | Entire shoreline within county | None | *87
|  | Indianhouse Lake East | Entire shoreline within county | None | *87
|  | Ponding Area 395-2 |  | None | *55
|  | Ponding Area 378-2 |  | None | *161
|  | Ponding Area 378-6 |  | None | *86
|  | Ponding Area 378-5 |  | None | *108
|  | Ponding Area 378-4 |  | None | *120
|  | Ponding Area 378-3 |  | None | *150
|  | Lake Maggie |  | None | *154
|  | Lake Taveres | Entire shoreline within county | *64 | *71
|  | Lake Arthur | Entire shoreline within county | None | *84
|  | Big Prairie Lake | Entire shoreline within county | None | *94
|  | Blacks Still Lake | Entire shoreline within county | None | *85
|  | Boggy Marsh | Entire area within county | None | *118
|  | Church Lake | Entire shoreline within county | None | *88
|  | Lake Nellie | Entire shoreline within county | None | *101
|  | Neighborhood Lakes North | Entire shoreline within county | None | *60
|  | Neighborhood Lakes South | Entire shoreline within county | None | *61
|  | Pike Lake | Entire shoreline within county | None | *102
|  | Trout Lake | Entire shoreline within county | None | *98
|  | Pine Island Lake | Entire shoreline within county | None | *108
|  | Plum Lake | Entire shoreline within county | None | *87
|  | Island Road | Entire shoreline within county | None | *70
|  | Lake Seneca | Entire shoreline within county | None | *78
|  | Lake Madge | Entire area within county | None | *80
|  | Sawgrass Bay | Entire area within county | None | *106
|  | Lake Spencer | Entire shoreline within county | None | *85
|  | Horseshoe Lake (East) | Entire shoreline within county | None | *89
|  | Horseshoe Lake (West) | Entire shoreline within county | None | *85
|  | Dilly Marsh | Entire shoreline within county | None | *87
|  | Dilly Lake | Entire shoreline within county | None | *87
|  | Hancock Bay North | Entire shoreline within county | None | *110
|  | Hancock Bay South | Entire shoreline within county | None | *114
|  | Hancock Lake | Entire shoreline within county | None | *115
|  | Myrtle Lake | Entire shoreline within county | None | *72
|  | Lake Lucie | Entire shoreline within county | None | *64
|  | Crooked Lake | Entire shoreline within county | None | *118
|  | Keene Lake | Entire shoreline within county | None | *111
|  | Hidden Lake | Entire shoreline within county | None | *112
|  | Stewart Lake | Entire shoreline within county | None | *100
|  | Sumner Lake | Entire shoreline within county | None | *97
|  | Olsen Lake | Entire shoreline within county | None | *100
|  | Crescent Lake | Entire shoreline within county | None | *107
|  | Crystal Lake | Entire shoreline within county | None | *79
|  | Lake Felter | Entire shoreline within county | None | *89
|  | Lake Gertrude | Entire shoreline within county | None | *72
|  | Lake Glona | Entire shoreline within county | None | *103
|  | Sawgrass Lake | Entire shoreline within county | None | *106
|  | Shepherd Lake | Entire shoreline within county | None | *86
|  | Square Lake | Entire shoreline within county | None | *110
|  | Wash Lake | Entire shoreline within county | None | *101
|  | Wilma Lake North | Entire shoreline within county | None | *91
|  | Wilma Lake South | Entire shoreline within county | None | *90
|  | Island Lake | Entire shoreline within county | None | *104
|  | Ponding Area 535-1 | Approximately 500 feet northeast of the intersection of Media Road and County Route 561A | None | *100
|  | Ponding Area 535-3 | Approximately 500 feet northeast of the intersection of Media Road and County Route 561A | None | *100
|  | Ponding Area 535-4 | Entire shoreline within county | None | *99
|  | Wash Pond 1 | Entire shoreline within county | None | *101
|  | Wash Pond 2 | Entire shoreline within county | None | *101
|  | Wash Pond 3 | Entire shoreline within county | None | *101
|  | Wash Pond 4 | Entire shoreline within county | None | *101
|  | Wash Pond 5 | Entire shoreline within county | None | *105
|  | Ponding Area 470-1 | Entire shoreline within county | None | *88
|  | Ponding Area 345-1 |  | None | *82
|  | Ponding Area 455-1 | Entire area within county | None | *84
|  | Lake 530-1 | Entire shoreline within county | None | *90
|  | Lake Saunders | Entire shoreline within county | *74 | *78
|  | Wolf Branch | Approximately 0.49 mile upstream of State Route 46 | *79 | *95
|  |  | At Griffin Lane | None | *166
|  | Ponding Area 555-1 |  | None | *82
|  | Ponding Area 555-2 |  | None | *82
|  | Ponding Area 555-3 | Approximately 1,200 feet southwest of the intersection of Arabian Way and Thoroughbred Lane | None | *90
|  | Lake Ella | Entire shoreline within county | *80 | *70
|  | Lake Umatilla | Entire shoreline within county | None | *69
|  | Lake Willie | Entire shoreline within county | None | *104
|  | Jacks Lake | Entire shoreline within county | None | *89
|  | Lake Ella 170 | Entire shoreline within county | None | *79
|  | Lake Junietta | Entire shoreline within county | None | *68
|  | Ponding Area Q2-1 | Entire shoreline within county | None | *77
|  | Lake Hermosa | Entire shoreline within county | None | *84
Maps available for inspection at the Lake County Public Works, 123 North Sinclair Avenue, Tavares, Florida.
Send comments to Mr. Jim Stivender, Jr., P.E., P.L.S., 123 North Sinclair Avenue, Tavares, Florida 32778.
Florida | Leesburg (City), Lake County | Leesburg Tributary 2 | From approximately 1,325 feet upstream of Youngs Road | None | *77
|  |  | Upstream side of State Route 44 | None | *81
|  | Lake Denham | Entire shoreline within county | None | *64
|  | Ponding Area Q2-1 | Entire shoreline within county | None | *77
|  | Ponding Area Q-3-4 | Entire shoreline within county | None | *78
|  | Leesburg Tributary 1 | Approximately 300 feet upstream of South Whitney | None | *78
|  |  | Approximately .80 mile upstream of South Whitney Road | None | *79
Maps available for inspection at the City of Leesburg Public Works Department, 413 East North Boulevard, Leesburg, Florida.
Send comments to The Honorable Ben Perry, Mayor of the City of Leesburg, P.O. Box 490630, Leesburg, Florida 34749.
Florida | Montverde (Town), Lake County | Lake Florence | Entire shoreline within County | *84 | *76
|  | Ponding Area 555-1 |  | *84 | *82
|  | Ponding Area 555-2 |  | None | *82
Maps available for inspection at the Montverde Town Hall, 17404 Sixth Street, Montverde, Florida.
Send comments to The Honorable Helen Pearce, Mayor of the Town of Montverde, P.O. Box 560008, Montverde, Florida 34756.
Florida | Mount Dora (City), Lake County | Lake Franklin | Entire shoreline within County | *105 | *106
|  | Lake Nettie | Entire shoreline within county | *86 | *89
|  | Lake John | Entire shoreline within county | *81 | *82
|  | Wolf Branch Sink |  | *79 | *82
|  | Lake Woodward | Approximately 900 feet northeast of the intersection of Codding Place and Mt. Mitchell Drive | None | *74
|  | Ponding Area 359-1 | None | *76
|  | Wolf Branch | At upstream side of Wooden Driveway Bridge | None | *127
|  |  | Approximately 200 feet upstream of Country Club Boulevard | None | *164
Maps available for inspection at the City of Mount Dora Building & Zoning Department, 900 North Donnelly Street, Mount Dora, Florida.
Send comments to The Honorable Jim Yatsuk, Mayor of the City of Mount Dora, P.O. Box 176, Mount Dora, Florida 32757.
Florida | Tavares (City), Lake County | Lake Eustis | Entire shoreline within County | *65 | *64
|  | Lake Harris | Entire shoreline within county | None | *64
Maps available for inspection at the City of Tavares Planning & Zoning Department, 201 East Main Street, Tavares, Florida.
Send comments to Ms. Dorothy Keedy, Tavares City Administrator, 201 East Main Street, Tavares, Florida 32778.
Georgia | Adel (City), Cook County | Morrison Creek Tributary | A point approximately 650 feet downstream of Nelson Road | None | *221
|  |  | Upstream side of Nelson Road | None | *221
|  | Bear Creek Tributary | A point approximately 900 feet upstream of the confluence with Bear Creek | None | *230
|  |  | A point approximately 0.72 mile upstream of the confluence with Bear Creek | None | *237
Maps available for inspection at the Cook County Commissioner's Office, 209 North Parrish Avenue, Adel, Georgia.
Send comments to Mr. Jerry Permenter, City of Adel Manager, P.O. Box 658, Adel, Georgia 31620.
Georgia | Cook County (Unincorporated Areas) | Morrison Creek Tributary | At the confluence with Morrison Creek | None | *209
|  |  | A point approximately 150 feet upstream of Interstate Route 75 | None | *221
|  | Bear Creek Tributary | A point approximately 750 feet upstream of the confluence with Bear Creek | None | *230
|  |  | A point approximately 0.72 mile upstream of the confluence with Bear Creek | None | *237
Maps available for inspection at the Cook County Commissioner's Office, 209 North Parrish Avenue, Adel, Georgia.
Send comments to Ms. Faye Hughes, Cook County Administrator, 209 North Parrish Avenue, Adel, Georgia 31620.
Georgia | Sparks (Town), Cook County | Bear Creek Tributary | At the confluence with Bear Creek | None | *230
|  |  | A point approximately 750 feet upstream of the confluence with Bear Creek | None | *230
Maps available for inspection at the Town of Sparks City Hall, 115 East Colquitt, Sparks, Georgia.
Send comments to The Honorable Jimmy Young, Mayor of the Town of Sparks, P.O. Box 899, Sparks, Georgia 31647.
Maine | Mount Vernon (Town), Kennebec County | Flying Pond | Entire shoreline within community | None | *349
|  | Echo Lake | Entire shoreline within community | None | *318
|  | Torsey Lake | Entire shoreline within community | None | *266
|  | Long Pond | Entire shoreline within community | None | *242
|  | Belgrade Stream | Between downstream corporate limits and Wings Mills Dam | None | *238
|  |  | Between Wings Mills Dam and Long Pond | None | *242
|  | Minnehonk Lake | Entire shoreline within community | None | *333
|  | Taylor Pond | Entire shoreline within community | None | *328
Maps available for inspection at the Mount Vernon Town Hall, Readfield (North) Road, Mount Vernon, Maine.
Send comments to Ms. Karen Stevens, Chairman of the Town of Mount Vernon Board of Selectmen, R.R. 1, Box 3340, Mount Vernon, Maine 04352.
Maine | York (Town), York County | Atlantic Ocean | Approximately 900 feet southeast of the intersection of Hiram Street and Willard Street | *15 | *22
|  |  | Approximately 1,000 feet southeast of Bayview Avenue and Long Sands Road | *9 | *10
|  | Shallow Flooding Area | Approximately 150 feet northeast of the intersection of Ocean Avenue and Marietta Avenue | None | #2
|  |  | Approximately 300 feet southwest of the intersection of Nubble Road and Long Beach Avenue along the west side of Long Beach Avenue | #2 | #1
|  |  | Along Shore Road in the vicinity of Phillips Cove | None | #1
|  |  | Approximately 1,350 feet southeast of the intersection of Shore Road and Agamenticus Avenue in the vicinity of Pint Cove | None | #1
|  |  | Along Bay Haven Road in the vicinity of Cape Neddick Harbor | None | #1
|  |  | Along York Street, south of Long Sands Road, in the vicinity of Little River | *9 | #1
|  |  | Approximately 1,700 feet south of intersection of Seabreeze Lane and Surf Point Road | None | #1
|  | Cape Neddick | At Shore Road | *9 | *10
|  | River | Approximately 650 feet downstream of U.S. Route 1 | *9 | *10
Maps available for inspection at the York Town Planner's Office, 186 York Street, York, Maine.
Send comments to Mr. Michael Palumbo, Chairman of the Town of York Board of Selectmen, 186 York Street, York, Maine 03909.
Massachusetts | Northbridge (Town), Worcester County | Riverdale Mills | Approximately 675 downstream of Riverdale Street | *257 | *256
|  | Sluice Gates and Tail Race | Approximately 500 feet upstream of Riverdale Street | *261 | *260
|  | Blackstone River | Approximately 25 feet downstream of Riverdale Street | *258 | *257
|  |  | Approximately 0.9 mile upstream of Factory Bridge | *275 | *274
Maps available for inspection at the Northbridge Town Hall, Zoning Office, 7 Main Street, Whitinsville, Massachusetts.
Send comments to Mr. Charles Ampagoomian, Chairman of the Town of Northbridge Board of Selectmen, Memorial Square, 7 Main Street, Whitinsville, Massachusetts 01500.
New York | Davenport (Town), Delaware County | Charlotte Creek | At the confluence with the Susquehanna River | None | *1,101
|  |  | At upstream of corporate limits | None | *1,327
Maps available for inspection at the Davenport Town Hall, Route 23, Davenport Center, New York 13751.
Send comments to Mr. Tod Rider, Town of Davenport Supervisor, P.O. Box 88, Davenport Center, New York 13571.
New York | Evans (Town), Erie County | Reisch Creek | At the confluence with Lake Erie | *579 | *580
|  |  | A point approximately 180 feet upstream of Revere Drive | *683 | *681
|  | Lake Erie | Southwest corporate limits along Lake Erie | *579 | *580
|  |  | Northeast corporate limits along Lke Erie | *580 | *581
Maps available for inspection at the Evans Town Hall, 8787 Erie Road, Angola, New York 14006-9600.
Send comments to Mr. Robert R. Catalino II, Evans Town Supervisor, Evans Town Hall, 8787 Erie Road, Angola, New York 14006-9600.
New York | Leray (Town), Jefferson County | Indian River | Approximately 0.43 mile downstream of Joachim Road | None | *406
|  |  | Approximately 1.48 miles upstream of Elm Ridge Road | None | *413
|  | West Creek | At its confluence with Indian River | None | *410
|  |  | Approximately 1.07 miles upstream of the confluence with Indian River | None | *410
Maps available for inspection at the Leray Town Hall, 8433 Willow Street, Evans Mills, New York 13637.
Send comments to Mr. Ronald Taylor, Leray Town Supervisor, 8433 Willow Street, Evans Mills, New York 13637.

(Catalog of Federal Domestic Assistance No. 83.100, “Flood Insurance”)

Dated: May 3, 2001.
Margaret E. Lawless,
Acting Executive Associate, Director for Mitigation .

[FR Doc. 01-12027 Filed 5-11-01; 8:45 am]

BILLING CODE 6718-04-P